FEDERAL COMMUNICATIONS COMMISSION

Notice of Public Information Collection(s) being Reviewed by the Federal Communications Commission, Comments Requested

September 23, 2004.

Summary: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility and clarity of the information collected; and (d) ways to minimize the burden of the collection of information on the respondents, including the use of automated collection techniques or other forms of information technology.

Dates: Written Paperwork Reduction (PRA) comments should be submitted on or before December 6, 2004. If you anticipate that you will be submitting comments, but find it difficult to do so within the period of time allowed by this notice, you should advise the contact listed below as soon as possible.

Addresses: Direct all Paperwork Reduction Act (PRA) comments to Judith B. Herman, Federal Communications Commission, Room 1-C804, 445 12th Street, SW., Washington, DC 20554 or via the Internet to Judith-B.Herman@fcc.gov.

For Further Information Contact: For additional information or copies of the information collection(s), contact Judith B. Herman at 202-418-0214 or via the Internet at Judith-B.Herman@fcc.gov.

Supplementary Information:

OMB Control Number: 3060-0715.

Title: Telecommunications Carriers' Use of Customer Proprietary Network Information (CPNI) and Other Customer Information, CC Docket No. 96-115.

Form No.: N/A.

Type of Review: Revision of a currently approved collection.

Respondents: Business or other for-profit institutions.

Number of Respondents: 4,832.

Estimated Time per Response: 136 hours.

Frequency of Response: On occasion, biennial, one-time and annual reporting requirements; recordkeeping and third party disclosure requirements.

Total Annual Burden: 659,808 hours.

Total Annual Cost: $229,520.

Privacy Act Impact Assessment: Not applicable.

Needs and Uses: The Memorandum Opinion and Order on Reconsideration was released in response to reconsideration requests for the Commission's Subscriber List Information Order, which implemented section 222(e) of the Act. Section 222(e) requires carriers to provide their subscriber list information (i.e., the names, addresses, phone numbers, and, where applicable, yellow pages advertising classifications) of their telephone exchange services subscribers to requesting directory publishers on a timely and unbundled basis and under reasonable and nondiscriminatory rates, terms, and conditions.

Federal Communications Commission.
Marlene H. Dortch,
Secretary.

[FR Doc. 04-22493 Filed 10-5-04; 8:45 am]

BILLING CODE 6712-01-P